DEPARTMENT OF HOMELAND SECURITY

Coast Guard

33 CFR Part 117

[Docket No. USCG-2023-0231]

RIN 1625-AA09

Drawbridge Operation Regulation; Old River, Between Victoria Island and Byron Tract, CA

AGENCY: Coast Guard, Department of Homeland Security (DHS).

ACTION: Temporary interim rule and request for comments.

SUMMARY: The Coast Guard is temporarily modifying the operating schedule that governs the draw of the California Department of Transportation (Route 4) highway bridge, mile 14.8 between Victoria Island and Byron Tract, CA. This action is necessary to allow the bridge owner to complete rehabilitation of the bridge after a continuing unexpected delay in installing We can't have and testing of the custom-made electronics.

DATES: Effective March 8, 2024, 33 CFR 117.183 is stayed until 5 p.m. on May 31, 2024. The temporary addition of 33 CFR 117.T184 is effective from 5 p.m. on March 8, 2024 through 5 p.m. on May 31, 2024. Comments and related material must reach the Coast Guard on or before April 8, 2024.

ADDRESSES: To view documents mentioned in this preamble as being available in the docket, go to https://www.regulations.gov. Type the docket number (USCG-2023-0231) in the “SEARCH” box and click “SEARCH”. In the Document Type column, select “Supporting & Related Material”.

FOR FURTHER INFORMATION CONTACT: If you have questions on this temporary interim rule, call or email Carl Hausner, Chief, Bridge Section, Eleventh Coast Guard District; telephone 510-437-3516, email Carl.T.Hausner@uscg.mil.

SUPPLEMENTARY INFORMATION:

I. Table of Abbreviations [Delete/Add Any Abbreviations Not Used/Used in This Document]

CFR Code of Federal Regulations

Caltrans California Department of Transportation

CADFW California Department of Fish and Wildlife

DHS Department of Homeland Security

FR Federal Register

NPRM Notice of proposed rulemaking

Pub. L. Public Law

§ Section

U.S.C. United States Code

II. Background Information and Regulatory History

The Coast Guard is issuing this temporary interim rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b), the Coast Guard finds that good cause exists for not publishing a notice of proposed rulemaking (NPRM) with respect to this rule because it is impracticable. This bridge is non-operational and will be non-operational until rehabilitation work can be completed.

On October 27, 2022, the Coast Guard issued a General Deviation which allowed the bridge owner, Caltrans, to deviate from the current operating schedule in 33 CFR 117.183 to conduct major mechanical and electrical rehabilitation of the bridge. Due to delays in procuring materials, vandalism of critical electrical submarine cables, and an active winter storm season, the project ran past the end date of April 23, 2023, of the General Deviation. The bridge could not be brought back to operating condition until the delivery of the critical Program Logic Control circuit and the replacement or repairs to the submarine cable could be made. On October 17, 2023, Caltrans informed the Coast Guard that critical electronic components, needed to complete the rehabilitation of the bridge, were still on back-order and not expected to be delivered in time for a project completion deadline of November 30, 2023. It was anticipated that the parts would be delivered in the beginning of the new year, the bridge work completed and the span operational by March 1, 2024. There was insufficient time to provide a reasonable comment period and then consider those comments before issuing the modification. On January 30, 2024, Caltrans notified the Coast Guard that the bridge would not be operational by March 1, 2024. The back ordered critical electronic components have been received and are currently being installed. After the installation of the electronic components, critical testing of the span must be conducted before it is put back into operation. Therefore, it is now anticipated the span will be fully operational by 5 p.m. on May 31, 2024.

Under 5 U.S.C. 553(d)(3), the Coast Guard finds that good cause exists for making this rule effective in less than 30 days after publication in the Federal Register. For reasons presented above, delaying the effective date of this rule would be impracticable and contrary to the public interest due to the fact that the bridge is currently inoperable and will not be back into operation until the rehabilitation work can be completed.

We are soliciting comments on this rulemaking. If the Coast Guard determines that changes to the temporary interim rule are necessary, we will publish a temporary final rule or other appropriate document.

III. Legal Authority and Need for Rule

The Coast Guard is issuing this temporary interim rule under authority in 33 U.S.C. 499. The Coast Guard is modifying the operating schedule that governs the California Department of Transportation (Route 4) highway bridge, mile 14.8 between Victoria Island and Byron Tract, California. The Caltrans Route 4 highway bridge has a vertical clearance, in the closed position, of 12.7 feet at mean high water and unlimited vertical clearance when opened.

The existing drawbridge regulation, 33 CFR 117.183, states that the draw of the California Department of Transportation (Route 4) highway bridge, mile 14.8 between Victoria Island and Byron Tract, shall open on signal if at least four hours notice is given to the drawtender at the Rio Vista bridge across the Sacramento River, mile 12.8. Caltrans, the bridge owner, has requested this modification as additional time is required to complete the bridge rehabilitation.

Drawtender logs, during a previous test deviation conducted May 5, 2021, to August 7, 2021, recorded the following number of CADFW vessel openings: four in May, eight in June, four in July, and two in August. One survey vessel passed in July. No recreational or commercial vessels requested an opening of the bridge span during that 90-day test deviation.

On October 27, 2022, the Coast Guard issued a General Deviation which allowed the bridge owner, Caltrans, to deviate from the current operating schedule in 33 CFR 117.183 to conduct major mechanical and electrical rehabilitation of the bridge. Due to various delays, the project ran past the end date of April 23, 2023, of the General Deviation. On April 20, 2023, the Coast Guard published a temporary interim rule with request for comments that extended the deviation from the operating schedule until November 30, 2023 (88 FR 24336). During the comment period that ended May 22, 2023, no comments were received.

On October 17, 2023, Caltrans informed the Coast Guard that critical electronic components, needed to complete the rehabilitation of the bridge, were still on back order and not expected to be delivered in time for a project completion deadline of November 30, 2023. It was anticipated that the parts would be delivered in the beginning of 2024, the bridge work completed and the span operational by March 1, 2024. During the comment period that ended December 28, 2023, no comments were received (88 FR 83026).

On January 30, 2024, Caltrans once again informed the Coast Guard that an extension would be needed to complete the rehabilitation of the bridge. The back ordered electronic components have been delivered but installation of the parts is still ongoing, and the span will require testing before it can be put back in service.

This temporary interim rule allows for a further deviation from the operating schedule until May 31, 2024.

IV. Discussion of the Rule

The Coast Guard is issuing this rule, which permits a temporary deviation from the operating schedule that governs the California Department of Transportation (Route 4) highway bridge, mile 14.8 between Victoria Island and Byron Tract, California. This rule allows the bridge to be secured in the closed-to-navigation position through 5 p.m. on May 31, 2024.

As part of the rehabilitation of the bridge, Caltrans has removed and is replacing all the electronics as well as key mechanical components that control the operation of the swing span. On January 31, 2023, vandals caused damage to one of the three newly installed custom-made submarine cables. On April 1, 2023, the contractor informed Caltrans that the custom-made Program Logic Control circuit, which is the circuit that controls the operation of the swing span, was delayed due to supply chain issues. These two critical components of bridge operations, as well as an active storm season, caused the delay of the completion of the rehabilitation of the bridge. On October 17, 2023, Caltrans informed the Coast Guard that critical electronic components, needed to complete the rehabilitation of the bridge, were still on back order and not expected to be delivered to meet the November 30, 2023, deadline, to bring the swing span back into operation. It was anticipated that the parts would be delivered in the beginning of 2024, the bridge work completed and the span operational by March 1, 2024. On January 30, 2024, Caltrans once again informed the Coast Guard that an extension of time was needed to complete the work. The critical electronic components have been received and are currently being installed. After installation is complete, testing of the swing span is necessary before returning the bridge to operational status.

Currently, the swing span remains inoperable until rehabilitation work is completed. The anticipated completion of the rehabilitation work is May 31, 2024.

V. Regulatory Analyses

We developed this temporary interim rule after considering numerous statutes and Executive orders related to rulemaking. Below we summarize our analyses based on a number of these statutes and Executive orders.

A. Regulatory Planning and Review

Executive Orders 12866 and 13563 direct agencies to assess the costs and benefits of available regulatory alternatives and, if regulation is necessary, to select regulatory approaches that maximize net benefits. This rule has not been designated a “significant regulatory action,” under Executive Order 12866, as amended by Executive Order 14094 (Modernizing Regulatory Review). Accordingly, it has not been reviewed by the Office of Management and Budget (OMB).

This regulatory action determination is based on the fact that little, or no commercial or recreational vessel traffic will be impacted by this rule. Furthermore, the swing span of the bridge, as of date of the publication of this rule, is not operational and cannot resume operations until installation of the delivered parts have been completed and the bridge's swing span tested.

B. Impact on Small Entities

The Regulatory Flexibility Act of 1980 (RFA), 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the bridge may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule calls for no new collection of information under the Paperwork Reduction Act of 1995 (44 U.S.C. 3501-3520).

D. Federalism and Indian Tribal Government

A rule has implications for federalism under Executive Order 13132, Federalism, if it has a substantial direct effect on the States, on the relationship between the national government and the States, or on the distribution of power and responsibilities among the various levels of government. We have analyzed this rule under that order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Management Directive 023-01, Rev.1, associated implementing instructions, and Environmental Planning Policy COMDTINST 5090.1 (series) which guide the Coast Guard in complying with the National Environmental Policy Act of 1969 (NEPA) (42 U.S.C. 4321-4370f). The Coast Guard has determined that this action is one of a category of actions that do not individually or cumulatively have a significant effect on the human environment. This rule promulgates the operating regulations or procedures for drawbridges and is categorically excluded from further review, under paragraph L49, of Chapter 3, Table 3-1 of the U.S. Coast Guard Environmental Planning Implementation Procedures.

Neither a Record of Environmental Consideration nor a Memorandum for the Record are required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; and DHS Delegation No. 00170.1, Revision No. 01.3.

2. Stay § 117.183 until 5 p.m. on May 31, 2024.

3. Add § 117.T184 to read as follows:

§ 117.T184 Old River.

The draw of the California Department of Transportation (Route 4) highway bridge, mile 14.8 between Victoria Island and Byron Tract need not be opened for the passage of vessels.

Dated: March 5, 2024.
Andrew M. Sugimoto,
Rear Admiral, U.S. Coast Guard, Commander, Eleventh Coast Guard District.

[FR Doc. 2024-05007 Filed 3-7-24; 8:45 am]

BILLING CODE 9110-04-P